DEPARTMENT OF COMMERCE

International Trade Administration

University of Michigan, et al., Notice of Consolidated Decision on Applications for Duty-Free Entry of Scientific Instruments

This is a decision pursuant to Section 6(c) of the Educational, Scientific, and Cultural Materials Importation Act of 1966 (Pub. L. 89-651, as amended by Pub. L.106-36; 80 Stat. 897; 15 CFR part 301). Related records can be viewed between 8:30 A.M. and 5:00 P.M. in Room 3705, U.S. Department of Commerce, 14th and Constitution Ave, NW, Washington, D.C.

Comments: None received. Decision: Approved. We know of no instruments of equivalent scientific value to the foreign instruments described below, for such purposes as this is intended to be used, that was being manufactured in the United States at the time of its order.

Docket Number: 10-002. Applicant: University of Michigan, Ann Arbor, MI 49109-2122. Instrument: Tester for TFT Imager. Manufacturer: Siemens AG, Corporate Technology, Germany. Intended Use: See notice at 75 FR 12175, March 15, 2010. Reasons: This instrument must be capable of measuring dynamic rate, linearity and noise. It must also support voltages in the rate of -10 V to 20 V and support maximum 60 Hz scanning speed. Another pertinent specification for this instrument is that it must be capable of working with an imager, having 128 rows and 128 columns. We know of no instrument suited to these purposes, which was being manufactured in the United States at the time of order of this instrument.

Docket Number: 10-004. Applicant: State University of New York College at Geneseo, Geneseo, NY 14454. Instrument: MultiView 2000TS Microscope System. Manufacturer: Nanonics Imaging Ltd., Israel. Intended Use: See notice at 75 FR 13486, March 22, 2010. Reasons: A pertinent feature of this instrument is the ability to switch between scanning the tip and the sample stage. Other unique features include the ability to use conventional AFM type silicon cantilevers as well as cantilevered optical fiber probes with exposed probed geometry, providing normal force sensing; the capability to image side walls with an exposed tip glass AFM probe and the ability to image in both NSOM and AFM with AC operating modes. We know of no instrument suited to these purposes, which was being manufactured in the United States at the time of order of this instrument.April 16, 2010

Christopher Cassel,
Director, Subsidies Enforcement Office, Import Administration

[FR Doc. 2010-9354 Filed 4-21-10; 8:45 am]

BILLING CODE 3510-DS-S